DEPARTMENT OF ENERGY

FEDERAL ENERGY REGULATORY COMMISSION

[Project No. 2230-044 Alaska]

City and Borough of Sitka, AK; Notice of Availability of Environmental Assessment

In accordance with the National Environmental Policy Act of 1969 and the Federal Energy Regulatory Commission's (Commission or FERC's) regulations, 18 Code of Federal Regulations (CFR) Part 380 (Order No. 486, 52 Federal Register 47897), Commission staff has reviewed the City and Borough of Sitka's (City of Sitka's) application for a capacity-related amendment to the license for the Blue Lake Hydroelectric Project (FERC Project No. 2230) and has prepared a final environmental assessment (EA). The project is located on Sawmill Creek, formerly the Medvetche River, in the Borough of Sitka, Alaska. The project currently occupies a total of 1,676 acres of federal lands administered by the U.S. Department of Agriculture, Forest Service, and under the City of Sitka's proposal, it would occupy 1,798 acres of federal lands.

The final EA contains the Commission staff's analysis of the potential environmental effects of the proposed modifications to the project and the addition of new generating capacity and the conclusion that authorizing the amendment, with appropriate environmental protective measures, would not constitute a major federal action that would significantly affect the quality of the human environment.

A copy of the final EA is available for review at the Commission in the Public Reference Room 2-A of the Commission's offices at 888 First Street NE., Washington, DC 20426. The final EA also may be viewed on the Commission's Internet Web site at (www.ferc.gov) using the “eLibrary” link. Enter the docket number excluding the last three digits in the docket number field to access the document. Additional information about the project is available from the Commission's Web site using the eLibrary link. For assistance with eLibrary, contact FERCOnlineSupport@ferc.gov or toll-free at (866) 208-3676; for TTY contact (202) 502-8659.

You may also register online at www.ferc.gov/docs-filing/esubscription.asp to be notified via email of new filings and issuances related to this or other pending projects. For assistance, contact FERC Online Support.

For further information, contact Steven Sachs by telephone at 202-502-8666 or by email at Steven.Sachs@ferc.gov.

Dated: May 30, 2012.
Kimberly D. Bose,
Secretary.

[FR Doc. 2012-13539 Filed 6-4-12; 8:45 am]

BILLING CODE 6717-01-P